DEPARTMENT OF AGRICULTURE

Animal and Plant Health Inspection Service

[Docket No. APHIS-2010-0047]

Environmental Impact Statement; Determination of Nonregulated Status of Sugar Beet Genetically Engineered for Tolerance to the Herbicide Glyphosate

AGENCY: Animal and Plant Health Inspection Service, USDA.

ACTION: Notice of intent to prepare an environmental impact statement and proposed scope of study.

SUMMARY: We are advising the public that the Animal and Plant Health Inspection Service plans to prepare an environmental impact statement in connection with a court-mandated evaluation of the potential impacts on the human environment associated with the Agency's determination of nonregulated status for a Monsanto/KWS SAAT AG sugar beet line, designated as event H7-1. This notice identifies the environmental and interrelated economic issues raised by the Court and other potential issues that we may include in the environmental impact statement and requests public comment to further delineate the scope of the issues and reasonable alternatives.

DATES: We will consider all comments that we receive on or before June 28, 2010.

ADDRESSES: You may submit comments by either of the following methods:

• Federal eRulemaking Portal: Go to http://www.regulations.gov/fdmspublic/component/main?main=DocketDetail&d=APHIS-2010-0047 to submit or view public comments and to view supporting and related materials available electronically.

• Postal Mail/Commercial Delivery: Please send one copy of your comment to Docket No. APHIS-2010-0047, Regulatory Analysis and Development, PPD, APHIS, Station 3A-03.8, 4700 River Road Unit 118, Riverdale, MD 20737-1238. Please state that your comment refers to Docket No. APHIS-2010-0047.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Andrea Huberty, Biotechnology Regulatory Services, APHIS, 4700 River Road Unit 147, Riverdale, MD 20737-1236; (301) 734-0485.

SUPPLEMENTARY INFORMATION: The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” The regulations in § 340.6(a) provide that any person may submit a petition to the Animal and Plant Health Inspection Service (APHIS) seeking a determination that an article should not be regulated under 7 CFR part 340. Paragraphs (b) and (c) of § 340.6 describe the form that a petition for a determination of nonregulated status must take and the information that must be included in the petition.

On October 19, 2004, APHIS published a notice in the Federal Register (69 FR 61466-61467, Docket No. 04-075-1) announcing receipt of a petition from Monsanto/KWS SAAT AG requesting a determination of nonregulated status under 7 CFR part 340 for sugar beet (Beta vulgaris ssp. vulgaris) designated as event H7-1, which has been genetically engineered for tolerance to the herbicide glyphosate. The petition stated that this article should not be regulated by APHIS because it does not present a plant pest risk. APHIS also announced in that notice the availability of a draft environmental assessment (EA) for the proposed determination of nonregulated status. Following review of public comments and completion of the EA, we published another notice in the Federal Register on March 17, 2005 (70 FR 13007-13008, Docket No. 04-075-2), advising the public of our determination, effective March 4, 2005, that the Monsanto/KWS SAAT AG sugar beet event H7-1 was no longer considered a regulated article under APHIS regulations in 7 CFR part 340.

On September 21, 2009, the U.S. District Court for the Northern District of California issued a ruling in a lawsuit filed by two organic seed groups and two nonprofit organizations challenging our decision to deregulate sugar beet event H7-1 (referred to in the lawsuit as Roundup Ready® sugar beet), pursuant to the National Environmental Policy Act (NEPA) of 1969, as amended (42 U.S.C. 4321 et seq.), the Administrative Procedure Act, and the Plant Protection Act. Under the provisions of NEPA, agencies must examine the potential environmental impacts of proposed Federal actions. The Court ruled that APHIS' EA failed to consider certain environmental and interrelated economic impacts. As a result, the Court stated that APHIS is required to prepare an environmental impact statement (EIS). Accordingly, APHIS plans to prepare an EIS. In doing so, APHIS will utilize as appropriate any environmental analysis provided by the Environmental Protection Agency (EPA) and other data or analysis prepared by other agencies. APHIS has requested that EPA serve as a cooperating agency. This notice identifies potential issues and reasonable alternatives that we are considering addressing, and requests public comment on the inclusion of these or related issues and alternatives in the EIS.

Management practices for organic sugar beet, conventional sugar beet, and glyphosate-tolerant sugar beet. What are the management practices and associated costs of establishing, growing, harvesting, and marketing sugar beet, including selling prices and premiums for the various types of sugar beet? What crop rotation regimes are used with sugar beet?

Production levels of organic and conventional sugar beet, Swiss chard, and table beet by region, State, and county. What is the acreage of cultivated, volunteer, or feral sugar beet? What is the acreage of Swiss chard and table beet? Which regions of the country may be affected as a result of a determination of nonregulated status for glyphosate-tolerant sugar beet? What are the potential impacts on adjacent, nonagricultural lands such as natural areas, forested lands, or transportation routes that may result from the use of glyphosate-tolerant sugar beet?

Potential impacts of glyphosate-tolerant sugar beet cultivation on livestock production systems. What are the potential impacts of glyphosate-tolerant sugar beet cultivation on conventional and organic livestock production systems?

Potential impacts on food and feed. Does glyphosate affect the socioeconomic value of food or feed or its nutritional quality? What are the impacts, if any, on food or feed socioeconomic value or its nutritional quality from the use of glyphosate?

Differences in weediness traits of conventional sugar beet versus glyphosate-tolerant sugar beet. What are the differences, if any, in weediness traits of conventional sugar beet versus glyphosate-tolerant sugar beet under managed crop production systems, as well as in unmanaged ecosystems?

Occurrence of common and serious weeds found in organic sugar beet systems, in conventional sugar beet systems, and in glyphosate-tolerant sugar beet systems. What are the impacts of weeds, herbicide-tolerant weeds, weed management practices, and unmet weed management needs for organic and conventional sugar beet cultivation? How may the weed impacts change with the use of glyphosate-tolerant sugar beet?

Management practices for controlling weeds in organic sugar beet systems, in conventional sugar beet systems, and in glyphosate-tolerant sugar beet systems. What are the potential changes in crop rotation practices and weed management practices for control of volunteer sugar beet or herbicide-tolerant weeds in rotational crops that may occur with the use of glyphosate-tolerant sugar beet? What are the potential effects on sugar beet stand termination and renovation practices that may occur with the use of glyphosate-tolerant sugar beet?

Cumulative impact on the development of glyphosate-resistant weeds. What glyphosate-resistant weeds have been identified and what is their occurrence in crops and in non-crop ecosystems? How would the addition of glyphosate-tolerant sugar beet impact the occurrence of glyphosate-resistant weeds in sugar beet, in other crops, and in the environment? Which are the most likely weeds, if any, to gain glyphosate resistance and why would they gain such resistance with the use of glyphosate-tolerant sugar beet? What are the current and potentially effective strategies for management of glyphosate-tolerant or other herbicide-tolerant weeds in glyphosate-tolerant sugar beet stands or in subsequent crops? What are the potential changes that may occur in glyphosate-tolerant sugar beet as to susceptibility or tolerance to other herbicides?

Current or prospective herbicide-tolerant weed mitigation options. What are the potential impacts of current or prospective herbicide-tolerant weed mitigation options, including those addressed by the EPA-approved label for glyphosate herbicides?

Potential for gene flow from glyphosate-tolerant sugar beet to other Beta species, including gene flow between seed fields, root crops, and feral plants. To what extent will deregulation change hybridization between cultivated and feral sugar beet, sugar beet introgression or establishment outside of cultivated lands, and sugar beet persistence or weediness in situations where it is unwanted, unintended, or unexpected? What are the potential impacts associated with feral glyphosate-tolerant sugar beet plants? Will the removal of glyphosate-tolerant sugar beet, in situations where it is unwanted, unintended, or unexpected, result in adverse impacts? In such situations, how will glyphosate-tolerant sugar beet be controlled or managed differently from other unwanted, unintended, or unexpected sugar beet?

Economic and social impacts on organic and conventional sugar beet, Swiss chard, and table beet farmers. What are the economics of growing organic sugar beet, conventional sugar beet, or glyphosate-tolerant sugar beet as well as the economics of growing organic or conventional Swiss chard and table beet? What are the potential impacts of the presence of glyphosate-tolerant sugar beet caused by pollen movement or seed admixtures? What are the potential impacts of commingling sugar beet seed with glyphosate-tolerant sugar beet seed? What are the potential changes in the economics of growing and marketing organic and conventional sugar beet that may occur with the growing of glyphosate-tolerant sugar beet? What are the potential changes in production levels of other crops that may occur with the growing of glyphosate-tolerant sugar beet? Will the cultivation of glyphosate-tolerant sugar beet result in more or fewer acres of other crops? What are the potential changes in growing practices, management practices, and crop rotational practices in the production of sugar beet seed for planting purposes that may occur with the use of glyphosate-tolerant sugar beet? What are the potential changes in the choice of seeds available for organic and conventional sugar beet farmers that may occur with the use of glyphosate-tolerant sugar beet?

Cumulative impact of potential increased glyphosate usage with the cultivation of glyphosate-tolerant crops. What are the past, present, and future impacts of glyphosate usage on soil quality, water quality, air quality, weed populations, crop rotations, soil microorganisms, diseases, insects, soil fertility, food or feed quality, crop acreages, and crop yields as a result of the introduction of glyphosate-tolerant crops? Does the level of glyphosate tolerance within glyphosate-tolerant sugar beet plants have an impact on the amount of glyphosate applied on the glyphosate-tolerant sugar beet crop on a routine basis?

Impacts on threatened or endangered species. What are the potential impacts of glyphosate-tolerant sugar beet cultivation on listed threatened or endangered species, or on species proposed for listing? What are the potential impacts of glyphosate use on listed threatened or endangered species or species proposed for listing, including glyphosate used on glyphosate-tolerant sugar beet? What impacts does the addition of glyphosate tolerance in sugar beet cultivation have on threatened and endangered species as a result of displacing other herbicides?

Potential health impacts. What are the potential health impacts to farmers or others who would be exposed to glyphosate-tolerant sugar beet?

Can any potential negative environmental impacts of the action be mitigated and what is the likelihood that such mitigation measures will be successfully implemented and effective? What is the likely effectiveness of the stewardship measures, outlined in the petition, which are designed to reduce inadvertent gene flow to negligible levels as well as to monitor and minimize the potential development of glyphosate-tolerant weeds? Are there reasonable alternative stewardship or monitoring measures that may avoid or minimize reasonably foreseeable environmental impacts of a deregulation decision?

Impacts of the mitigation measures on coexistence with organic and conventional sugar beet production and on export markets. What are the potential impacts of mitigation measures on coexistence with organic and conventional sugar beet production and on export markets? Are there reasonable alternative measures that may avoid or minimize reasonably foreseeable impacts on organic and conventional sugar beet production and on export markets that may be associated with a deregulation decision?

Consideration of reasonable alternatives. The EIS will consider a range of reasonable alternatives. These could include continued regulation of Roundup Ready® sugar beets, deregulating Roundup Ready® sugar beets, deregulating Roundup Ready® sugar beets in part with geographic restrictions, or deregulating Roundup Ready® sugar beets in part with required separation distances from sexually compatible crops. Comments that identify other reasonable alternatives that should be examined in the EIS would be especially helpful.

Sugar beet growth, crop management, and crop utilization may vary considerably by geographic region, and therefore, when providing comments on a topic or issue, please provide relevant information on the specific locality or region in question. Additionally, we invite the participation of any affected Federal, State, or local agencies or Tribes.

All comments on this notice will be carefully considered in developing the final scope of the EIS. Upon completion of the draft EIS, a notice announcing its availability and an invitation to comment on it will be published in the Federal Register.

Done in Washington, DC, this 25th day of May 2010.
Kevin Shea,
Acting Administrator, Animal and Plant Health Inspection Service.

[FR Doc. 2010-12997 Filed 5-26-10; 11:15 am]

BILLING CODE 3410-34-P